DEPARTMENT OF STATE

[Public Notice: 9254]

In the Matter of the Designation of Revolutionary Organization 17 November aka Epanastatiki Organosi 17 Noemvri aka 17 Novembert as a Specially Designated Global Terrorist Pursuant to Section 1(b) of Executive Order 13224, as Amended

In accordance with section 1(b) of Executive Order 13224 of September 23, 2001, as amended (“the Order”), I hereby determine that the organization known as the Revolutionary Organization 17 November, also known as other aliases and transliterations, no longer meets the criteria for designation under the Order, and therefore I hereby revoke the designation of the aforementioned organization as a Specially Designated Global Terrorist pursuant to section 1(b) of the Order.

This determination shall be published in the Federal Register.

Dated: August 26, 2015.
John F. Kerry,
Secretary of State.

[FR Doc. 2015-21929 Filed 9-2-15; 8:45 am]

BILLING CODE 4710-AD-P